DEPARTMENT OF TRANSPORTATION

Federal Aviation Administration

14 CFR Part 39

[Docket No. 2002-NM-175-AD]

RIN 2120-AA64

Airworthiness Directives; Airbus Model A310 Series Airplanes

AGENCY: Federal Aviation Administration, DOT.

ACTION: Notice of proposed rulemaking (NPRM).

SUMMARY: This document proposes the supersedure of an existing airworthiness directive (AD), applicable to certain Airbus Model A310 series airplanes, that requires repetitive inspections of the fuselage skin to detect corrosion or fatigue cracking around and under the chafing plates of the wing root; and corrective actions, if necessary. That AD also provides an optional terminating action for the repetitive inspections. This action would reinstate repetitive inspections in certain areas where corrosion was detected and reworked as required by the existing AD. The actions specified by the proposed AD are intended to detect and correct fatigue cracks and corrosion around and under the chafing plates of the wing root, which could result in reduced structural integrity of the airplane. This action is intended to address the identified unsafe condition.

DATES: Comments must be received by January 20, 2004.

ADDRESSES: Submit comments in triplicate to the Federal Aviation Administration (FAA), Transport Airplane Directorate, ANM-114, Attention: Rules Docket No. 2002-NM-175-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-175-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Anthony Jopling, Program Manager, International Branch, ANM-116, FAA, Transport Airplane Directorate, 1601 Lind Avenue, SW., Renton, Washington 98055-4056; telephone (425) 227-2190; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-175-AD.” The postcard will be date stamped and returned to the commenter.

Availability of NPRMs

Any person may obtain a copy of this NPRM by submitting a request to the FAA, Transport Airplane Directorate, ANM-114, Attention: Rules Docket No. 2002-NM-175-AD, 1601 Lind Avenue, SW., Renton, Washington 98055-4056.

Discussion

On April 21, 1998, the FAA issued AD 98-09-20, amendment 39-10501 (63 FR 23377, April 29, 1998), applicable to certain Airbus Model A310 series airplanes, to require repetitive inspections of the fuselage skin to detect corrosion or fatigue cracks around and under the chafing plates of the wing root; and corrective actions, if necessary. That AD also provides an optional terminating action for the repetitive inspections. That action was prompted by notification from the Direction Générale de l'Aviation Civile (DGAC), which is the airworthiness authority for France, that it received reports of the presence of corrosion under the chafing plates and around the fasteners of the wing root between fuselage frames 36 and 39. The requirements of that AD are intended to detect and correct fatigue cracks and corrosion around and under the chafing plates of the wing root, which could result in reduced structural integrity of the airplane.

Actions Since Issuance of Previous Rule

Although AD 98-09-20 provides an optional terminating action for repetitive inspections for fatigue cracking around and under the chafing plates of the wing root, it has been determined that repetitive inspections for fatigue cracking are still necessary on the left and right sides of frame 39, stringer 35, if any corrosion was reworked in this area.

Explanation of Relevant Service Information

Since the issuance of AD 98-09-20, Airbus has issued Service Bulletin A310-53-2069, Revision 02, dated September 23, 1996; Revision 03, dated October 28, 1997; and Revision 04, dated November 8, 2000. These service bulletins describe the same procedures as specified in Airbus Service Bulletin A310-53-2069, Revision 01, dated September 19, 1995, for repetitive inspections to detect corrosion and fatigue cracks around and under the chafing plates of the wing root between fuselage frame 36 and frame 39. These service bulletins also include the same procedures for follow-on and corrective actions as Service Bulletin A310-53-2069, Revision 01. The corrective actions include reworking corroded areas, oversizing and reaming holes, installing doublers, and performing a high frequency eddy current inspection and an x-ray inspection. Revision 01 of the service bulletin is cited in AD 98-09-20 as the appropriate source of service information.

Airbus has also issued Service Bulletin A310-53-2070, Revision 02, dated November 8, 2000, which describes procedures for replacement of the stainless steel chafing plates with new chafing plates made of aluminum alloy. Accomplishment of this service bulletin eliminates the need for the repetitive inspections for fatigue cracking, unless corrosion was detected and reworked on the left and/or right side of frame 39, stringer 35. If corrosion was detected and reworked in this area, repetitive inspections for fatigue cracking are still necessary. The original issue of this service bulletin, dated October 3, 1994, is cited in AD 98-09-20 as an acceptable source of service information for the optional terminating action.

The DGAC classified Airbus Service Bulletin A310-53-2069, Revision 04, dated November 8, 2000, as mandatory and issued French airworthiness directive 2000-514-326(B) R1, dated May 15, 2002, to ensure the continued airworthiness of these airplanes in France.

FAA's Conclusions

This airplane model is manufactured in France and is type certificated for operation in the United States under the provisions of § 21.29 of the Federal Aviation Regulations (14 CFR 21.29) and the applicable bilateral airworthiness agreement. Pursuant to this bilateral airworthiness agreement, the DGAC has kept the FAA informed of the situation described above. We have examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 98-09-20 to continue to require repetitive inspections of the fuselage skin to detect corrosion or fatigue cracking around and under the chafing plates of the wing root; and corrective actions, if necessary. The inspections would be required to be accomplished in accordance with Airbus Service Bulletin A310-53-2069, Revision 04; Revision 03; Revision 02; or Revision 01; described previously; except as discussed below. The replacement of the chafing plates would be required to be accomplished in accordance with Airbus Service Bulletin A310-53-2070, Revision 02; Revision 01, dated September 23, 1996; or Original Issue; described previously; except as discussed below. This action would reinstate repetitive inspections for fatigue cracking at frame 39, stringer 35, if corrosion was detected and reworked in this area.

Differences Among Proposed Rule, Service Information, and French Airworthiness Directive

Although the service bulletins specify that operators may contact the manufacturer for disposition of certain repair conditions, this proposal would require operators to repair those conditions per a method approved by either the FAA or the DGAC (or its delegated agent). In light of the type of repair that would be required to address the unsafe condition, and consistent with existing bilateral airworthiness agreements, we have determined that, for this proposed AD, a repair approved by either the FAA or the DGAC would be acceptable for compliance with this proposed AD.

Also, operators should note that, although the Accomplishment Instructions of the referenced service bulletins describe procedures for reporting inspection results to the manufacturer, this proposed AD would not require such reporting. The FAA does not need this information from operators.

Cost Impact

There are approximately 46 airplanes of U.S. registry that would be affected by this proposed AD. This proposed AD adds no new requirements. It requires continuation of repetitive inspections for airplanes where corrosion was detected and reworked at frame 39, stringer 35. The current costs associated with this proposed AD are reiterated in their entirety as follows for the convenience of affected operators:

The inspections that are currently required by AD 98-09-20 take approximately 68 work hours per airplane to accomplish at an average labor rate of $65 per work hour. Based on these figures, the cost impact of the currently required actions is estimated to be $4,420 per airplane, per inspection cycle.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10501 (63 FR 23377, April 29, 1998), and by adding a new airworthiness directive (AD), to read as follows:

Airbus: Docket 2002-NM-175-AD. Supersedes AD 98-09-20, Amendment 39-10501.

Applicability: Model A310 series airplanes on which Airbus Modifications 8888 and 8889 have not been accomplished, certificated in any category.

Compliance: Required as indicated, unless accomplished previously.

To detect and correct fatigue cracking and corrosion around and under chafing plates of the wing root between fuselage frame 36 and frame 39, which could result in reduced structural integrity of the airplane, accomplish the following:

Restatement of Requirements of AD 98-09-20

Repetitive Inspections and Corrective Actions

(a) Except as provided by paragraph (b) of this AD: Within 4 years since date of manufacture, or within 12 months after June 3, 1998 (the effective date of AD 98-09-20, amendment 39-10501), whichever occurs later, perform an inspection to detect discrepancies around and under the chafing plates of the wing root, in accordance with the Accomplishment Instructions of Airbus Service Bulletin A310-53-2069, Revision 04, dated November 8, 2000; Revision 03, dated October 28, 1997; Revision 02, dated September 23, 1996; or Revision 01, dated September 19, 1995. If any discrepancy is found, prior to further flight, accomplish follow-on corrective actions (i.e., removal of corrosion, corrosion protection, high frequency eddy current inspection, x-ray inspection), as applicable, in accordance with the applicable service bulletin. Repeat the inspections thereafter at the intervals specified in the applicable service bulletin. After the effective date of this AD, repeat the inspections thereafter at the intervals specified in Revision 04 of the service bulletin.

(b) If any discrepancy is found during any inspection required by paragraph (a) of this AD, and Airbus Service Bulletin A310-53-2069, Revision 04, dated November 8, 2000; Revision 03, dated October 28, 1997; Revision 02, dated September 23, 1996; or Revision 01, dated September 19, 1995; as applicable; specifies to contact Airbus for appropriate action: Prior to further flight, repair in accordance with a method approved by the Manager, International Branch, ANM-116, FAA, Transport Airplane Directorate. Where differences in the compliance times or corrective actions exist between the service bulletin and this AD, the AD prevails.

New Requirements of This AD

Optional Terminating Action

(c) Except as provided by paragraph (d) of this AD: Accomplishment of the replacement of the stainless steel chafing plates with new chafing plates made of aluminum alloy, in accordance with Airbus Service Bulletin A310-53-2070, Revision 02, dated November 8, 2000; Revision 01, dated September 23, 1996; or the Original Issue, dated October 3, 1994; constitutes terminating action for the repetitive inspections required by paragraph (a) of this AD.

Continuation of Repetitive Inspections

(d) Within 30 days after the effective date of this AD: Do a review of the airplane maintenance records to determine if any corrosion was detected and reworked on the left and/or right side of frame 39, stringer 35, during the accomplishment of any corrective action or repair specified in paragraphs (a) or (b) of this AD. If any corrective action or repair has been accomplished in this area, perform an inspection for fatigue cracking of frame 39, stringer 35, in accordance with the Accomplishment Instructions of Airbus Service Bulletin A310-53-2069, Revision 04, dated November 8, 2000. Do the initial inspection at the threshold specified in Figure 1 of the service bulletin, or within 30 days after the effective date of this AD, whichever is later. Repeat the inspection thereafter at the intervals specified in Figure 1 of the service bulletin. If any discrepancy is found, prior to further flight, accomplish the applicable follow-on corrective actions in accordance with the Accomplishment Instructions of the service bulletin.

Submission of Information Not Required

(e) Although the service bulletins referenced in this AD specify to submit information to the manufacturer, this AD does not include such a requirement.

Alternative Methods of Compliance

(f) In accordance with 14 CFR 39.19, the Manager, International Branch, ANM-116, FAA, Transport Airplane Directorate, is authorized to approve alternative methods of compliance for this AD.

Note 1: The subject of this AD is addressed in French airworthiness directive 2000-514-326(B) R1, dated May 15, 2002.

Issued in Renton, Washington, on December 10, 2003.
Kevin Mullin,
Acting Manager, Transport Airplane Directorate, Aircraft Certification Service.

[FR Doc. 03-31179 Filed 12-17-03; 8:45 am]

BILLING CODE 4910-13-U